DEPARTMENT OF THE INTERIOR

Bureau of Land Management

[212 LLUTY02000 L17110000.PN0000 LXSSJ0650000]

Notice of Public Meeting, Bears Ears National Monument Advisory Committee, Utah

AGENCY: Bureau of Land Management, Interior.

ACTION: Notice of public meeting.

SUMMARY: In accordance with the Federal Land Policy and Management Act, as amended, the Federal Advisory Committee Act, and the Federal Lands Recreation Enhancement Act, the U.S. Department of the Interior, Bureau of Land Management's (BLM) Bears Ears National Monument Advisory Committee (BENM MAC) will meet as indicated below.

DATES: The BENM MAC will hold a virtual meeting on March 31, 2021, from 8 a.m. to 3 p.m. The meeting is open to the public.

ADDRESSES: The agenda and meeting access information (including how to log in and participate) will be announced on the BENM MAC web page 30 days before the meeting at https://www.blm.gov/get-involved/rac-near-you/utah/benm-mac.

FOR FURTHER INFORMATION CONTACT: Jake Palma, Bears Ears National Monument Manager, P.O. Box 7, Monticello, Utah 84535, via email with the subject line “BENM MAC” to blm_ut_mt_mail@blm.gov, or by calling the Monticello Field Office at 435-587-1500. Persons who use a telecommunications device for the deaf may call the Federal Relay Service (FRS) at 1-800-877-8339 to leave a message or question for the above individual. The FRS is available 24 hours a day, seven days a week. Replies are provided during normal business hours.

SUPPLEMENTARY INFORMATION: Presidential Proclamation 9558, as modified by Presidential Proclamation 9681, established the BENM MAC to provide advice and information to the Secretary of the Interior through the Director of the BLM, and to the Secretary of Agriculture through the Chief of the U.S. Forest Service, to consider for managing the Bears Ears National Monument. The 15-member committee represents a wide range of interests including local and state government, paleontological and archaeological expertise, conservation community, livestock grazing permittees, tribal, developed and dispersed recreation, private landowners, local business owners, and the public at large. More information can be found on the BENM MAC web page at https://www.blm.gov/get-involved/rac-near-you/utah/benm-mac.

Planned agenda items for the meeting include discussing and receiving input on Bears Ears National Monument management planning efforts, wood-cutting and harvesting, and other issues as appropriate.

A public comment period will be offered during the meeting. Depending on the number of people wishing to comment and the time available, the time for individual comments may be limited. Written comments may also be sent to the Monticello Field Office at the address listed in the FOR FURTHER INFORMATION CONTACT section of this notice. All comments received prior to the meeting will be provided to the BENM MAC.

Before including your address, phone number, email address, or other personal identifying information in your comment, you should be aware that your entire comment—including your personal identifying information—may be made publicly available at any time. While you can ask us in your comment to withhold your personal identifying information from public review, we cannot guarantee that we will be able to do so.

Detailed meeting minutes for the BENM MAC meeting will be maintained in the Canyon Country District Office and will be available for public inspection and reproduction during regular business hours within 90 days following the meeting. Minutes will also be posted to the BENM MAC web page.

Authority: 43 CFR 1784.4-2.

Gregory Sheehan,
State Director.

[FR Doc. 2021-00790 Filed 1-14-21; 8:45 am]

BILLING CODE 4310-DQ-P